NUCLEAR REGULATORY COMMISSION

[NRC-2010-0002]

Meetings; Sunshine Act

Date: Week of June 7, 2010.

Place: Commissioners' Conference Room, 11555 Rockville Pike, Rockville, Maryland.

Status: Public and closed.

Additional Items To Be Considered: Wednesday, June 9, 2010

1:25 p.m. Affirmation Session (Public Meeting) (Tentative).

a. Review of Final Rule Package, Export and Import of Nuclear Equipment and Material; Updates and Clarifications (10 CFR part 110, RIN 3150-AI16) (Tentative).

This meeting will be webcast live at the Web address— http://www.nrc.gov.

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Determinations on requests for reasonable accommodation will be made on a case-by-case basis.

This notice is distributed electronically to subscribers. If you no longer wish to receive it, or would like to be added to the distribution, please contact the Office of the Secretary, Washington, DC 20555, (301)-415-1969, or send an e-mail to darlene.wright@nrc.gov.

Dated: June 2, 2010.
Rochelle C. Bavol,
Policy Coordinator, Office of the Secretary.

[FR Doc. 2010-13667 Filed 6-3-10; 4:15 pm]

BILLING CODE 7590-01-P